DEPARTMENT OF DEFENSE

Office of the Secretary

[Docket ID: DoD-2024-OS-0058]

Defense Industrial Base Adoption of Artificial Intelligence for Defense Applications; Notice of Availability

AGENCY: Office of Policy, Analysis, and Transition (PA&T), Office of the Deputy Assistant Secretary of Defense (Industrial Base Resilience), Department of Defense (DoD).

ACTION: Notice of request for public comments.

SUMMARY: The DoD Office of Industrial Base Resilience seeks public comment on actions it can take to enable the Defense Industrial Base (DIB) to continue to adopt artificial intelligence (AI) for defense applications. Feedback from the public will guide the DoD in developing policies, initiatives, and resource distribution to ensure support for the DIB in integrating AI into defense systems. Public comments will also be used to formulate PA&T's Trusted AI Defense Industrial Base Roadmap.

DATES: Responses to this notice must be received by July 22, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions must include the agency name, docket number, and title of this Federal Register document. Each responding entity (individual or organization) is requested to submit only one response. You need not reply to all questions listed. The general policy for comments and other submissions from members of the public is to make them available as they are received, without change, including any personal identifiers or contact information for public viewing on the internet at http://www.regulations.gov. Therefore, your response to this RFI should not include any information that is proprietary, copyrighted, or personally identifiable, or that you do not wish to be made public.

FOR FURTHER INFORMATION CONTACT: Ms. Kylie Gaskins, Deputy Director, Enabling Future Capabilities Transition Division of the Office of Policy, Analysis, and Transition, at (571) 372-6380 or osd.mc-alex.ousd-a-s.mbx.ibr-ai-rfi@mail.mil.

SUPPLEMENTARY INFORMATION:

Background

The DoD Office of Industrial Base Resilience recognizes that the integration of AI into defense systems is pivotal to national security. The DIB is responsible for developing, manufacturing, and maintaining the systems that the U.S. military uses to defend the nation. DoD collaborates with the DIB to rapidly adopt AI for defense applications and maintain the nation's tactical advantage.

The Department recognizes the importance of investing in the DIB's ability to incorporate AI into the design, development, operations, maintenance, and support of defense systems. Two Executive Orders signed in 2021 and 2023 underscore the need for the United States to uphold its technological competitiveness. Executive Order 14017, “America's Supply Chains” (available at https://www.federalregister.gov/documents/2021/03/01/2021-04280/americas-supply-chains), prioritizes the establishment of a resilient supply chain and DIB to safeguard U.S. economic prosperity and national security. Executive Order 14110, “Safe, Secure, and Trustworthy Development and Use of Artificial Intelligence” (available at https://www.federalregister.gov/documents/2023/11/01/2023-24283/safe-secure-and-trustworthy-development-and-use-of-artificial-intelligence), highlights the importance of integrating AI securely and safely. The recently released National Defense Industrial Strategy (NDIS) (available at https://www.businessdefense.gov/NDIS.html) emphasizes the significance of robust supply chains and modernization of the DIB, both of which can be facilitated through the adoption of AI. Finally, the Data, Analytics, and Artificial Intelligence Adoption Strategy (available at https://media.defense.gov/2023/Nov/02/2003333300/-1/-1/1/DOD_DATA_ANALYTICS_AI_ADOPTION_STRATEGY.PDF), by the Department's Chief Digital and Artificial Intelligence Office, advocates for an approach to AI that includes data, analytics, rapid research and development, and seamless integration with allied nations and partners. These strategies, approaches, and policies emphasize the critical importance of a robust DIB with the resources necessary to employ AI effectively for defense applications.

The Department seeks comments from the public to: (1) help the DoD understand the resources needed by the DIB for ongoing integration of AI into defense systems; and (2) help PA&T to develop a Trusted AI Defense Industrial Base Roadmap, which will outline short-, mid-, and long-term DIB considerations for AI-enabled defense systems.

Written Comments

The DoD seeks input and insight specifically pertaining to the policy goals outlined in Executive Orders 14017 and 14110, the NDIS, and the Data, Analytics, and Artificial Intelligence Adoption Strategy. These directives directly impact the DIB's ability to integrate AI into defense applications. The Department is seeking input from the public on the following questions:

Infrastructure/Supply Chain Resilience

The domestic DIB includes public-sector (government-owned, government-operated) facilities, academic institutions, and private-sector (commercial) companies that are located in the United States and that enable the DoD to conduct its missions. The global DIB includes foreign-owned companies, commodities, and supply chains sourced from countries with or without which the United States maintains formal defense cooperation partnerships with the United States. Together, the domestic DIB and portions of the global DIB form the National Technology and Industrial Base, as established by 10 U.S.C. 4801.

1. What foundational investments in the DIB does the DoD need to make to support increased adoption of AI into defense systems (e.g., manufacturing considerations, standards, best practices, bill of materials, etc.)? What foundational investments (e.g., standards, best practices, bills of materials, etc.) already exist within the DIB for defense systems that incorporate AI?

2. Are there specific vulnerabilities in the current and future supply chain that the DoD needs to address to support defense systems that incorporate AI?

3. Are there specific sectors/subindustries within the DIB that face significant challenges in developing and applying AI to defense systems? If so, which sectors/subindustries are impacted and what challenges do the sectors/subindustries face?

Workforce

A non-traditional defense contractor is defined as an entity that is not currently performing and has not performed, for at least the one-year period preceding the solicitation of sources by the DoD for the procurement or transaction, any contract or subcontract for the DoD that is subject to full coverage under the cost accounting standards prescribed pursuant to 41 U.S.C. 1502 and the regulations implementing such section.

A small business in the United States is defined by the U.S. Small Business Administration's table of small business size standards: https://www.sba.gov/document/support-table-size-standards.

4. How can the DoD support the involvement of non-traditional defense contractors and small businesses in the design, development, testing, and deployment of AI technologies for defense applications?

5. How can the DoD support and create effective partnerships with the DIB that will ensure that the DoD and DIB workforce is adequately trained, skilled, and sized to partner effectively?

Innovation

6. Are there specific intellectual property considerations or challenges related to the development of AI-enabled defense systems that impact the DIB? If so, how can the DoD address these issues to promote innovation?

7. How can the DoD promote information-sharing and collaboration among government agencies, defense contractors, and research institutions to enhance data availability, collective knowledge, capabilities, and defense innovation in AI adoption into defense systems?

8. What measures can the DoD take to assess and mitigate the risks associated with potential adversarial exploitation of AI technologies within the DIB for developmental and/or operational defense systems?

Acquisition, Policy, & Regulatory Environment

9. Please identify statutory, regulatory, or other policy barriers to the DIB's design, development, testing, and provision of AI-enabled defense systems in a manner consistent with DoD's approach to Responsible AI (https://rai.tradewindai.com/).

10. Please identify examples of DoD programs, strategies, policies, or initiatives that have provided effective support to the DIB in transitioning AI for defense applications. What made these programs, strategies, policies, or initiatives successful?

11. What DoD financing and acquisition mechanisms can help facilitate or incentivize the DIB to continue to invest in AI technologies for defense applications?

12. What are the primary barriers that the DoD needs to address in the next five to ten years to enable the DIB to adopt AI for defense applications?

13. In what ways can AI support or enhance acquisitions, supply chain management, regulatory compliance, and information-sharing in the DIB?

The DoD encourages respondents to structure their comments using the same text above as identifiers for the areas of inquiry to which they are responding. This will assist the DoD in reviewing and summarizing the comments. For example, a commenter submitting comments responsive to (1), “1. What foundational investments in the Defense Industrial Base (DIB) does the DoD need to make to support increased adoption of AI into defense systems (e.g., manufacturing considerations, standards, best practices, bill of materials, etc.)?” would use that same text as a heading in the public comments followed by the commenter's specific comments in this area. The Department encourages the use of an Executive Summary at the beginning of all comments and information so it can review the submitted documents more efficiently. All inputs are welcome. Respondents do not need to reply to every question.

Requirements for Written Comments

The http://www.regulations.gov website allows users to provide comments by filling in a “Type Comment” field, or by attaching a document using an “Upload File” field. The DoD prefers that comments be provided in an attached document. The Department prefers submissions in Microsoft Word (.doc files) or Adobe Acrobat (.pdf files). If the submission is provided in a format other than Microsoft Word or Adobe Acrobat, please indicate the name of the application in the “Type Comment” field. Please do not attach separate cover letters to electronic submissions; rather, include any information that might appear in a cover letter within the comments. Similarly, to the extent possible, please include any exhibits, annexes, or other attachments in the same file, so the submission consists of one file instead of multiple files. Responses must not exceed 12 pages in 12-point or larger font, with a page number provided on each page. Comments will be placed in the docket and open to public inspection. Comments may be viewed on http://www.regulations.gov by entering docket number DoD-2024-OS-0058 in the search field on the home page.

All filers should name their files using the name of the person or entity submitting the comments. Responses should include the name of the person(s) or organization(s) filing the comment, as well as the respondent type (e.g., academic institution, advocacy group, professional society, industry, member of the public, government agency, other). Respondent's role in the organization is also requested to be provided (e.g., researcher, faculty, student, administrator, program manager, journalist) on a voluntary basis. We will not make communications from United States Government agencies available for public inspection.

Anyone submitting business confidential information should clearly identify the business confidential portion at the time of submission, file a statement justifying nondisclosure and referring to the specific legal authority claimed, and provide a non-confidential version of the submission. The non-confidential version of the submission will be placed in the public file on http://www.regulations.gov. For comments submitted electronically containing business confidential information, the file name of the business confidential version should begin with the characters “BC.” Any page containing business confidential information must be clearly marked “BUSINESS CONFIDENTIAL” on the top of that page. The non-confidential version must be clearly marked “PUBLIC.” The file name of the non-confidential version should begin with the character “P.” The “BC” and “P” should be followed by the name of the person or entity submitting the comments or rebuttal comments.

If a public hearing is held in support of this assessment, a separate Federal Register notice will be published providing the date and information about the hearing. The Office of the Deputy Assistant Secretary of Defense (Industrial Base Resilience) does not maintain a separate public inspection facility. Requesters should first view the Department's web page, which can be found at https://open.defense.gov/ (see “Electronic FOIA” heading). The records related to this assessment are made accessible in accordance with the regulations published in part 4 of title 15 of the Code of Federal Regulations (15 CFR 4.1 through 4.11).

Dated: May 16, 2024.
Aaron T. Siegel,
Alternate OSD Federal Register Liaison Officer, Department of Defense.

[FR Doc. 2024-11195 Filed 5-21-24; 8:45 am]

BILLING CODE 6001-FR-P